DEPARTMENT OF HOUSING AND URBAN DEVELOPMENT

[Docket No. FR-4630-FA-11]

Announcement of Funding Award—FY 2001; Healthy Homes Grant Program

AGENCY: Office of the Secretary—Office of Healthy Homes Initiative and Lead Hazard Control, HUD.

ACTION: Announcement of funding awards.

SUMMARY: In accordance with section 102(a)(4)(C) of the Department of Housing and Urban Development Reform Act of 1989, this announcement notifies the public of additional funding decisions made by the Department in a competition for funding under the Healthy Homes Demonstration and Education Notice of Funding Availability (NOFA). This announcement contains the name and address of the award recipient and the amount of award.

FOR FURTHER INFORMATION CONTACT: Ellen R. Taylor, Department of Housing and Urban Development, Office of Healthy Homes Initiative and Lead Hazard Control, Room P3206, 451 Seventh Street, SW., Washington, DC 20410, telephone (202) 755-1785, ext. 116. Hearing-and speech-impaired persons may access the number above via TTY by calling the toll free Federal Information Relay Service at 1-800-877-8339.

SUPPLEMENTARY INFORMATION: On February 26, 2001 (66 FR 11893), HUD published a NOFA announcing the availability of approximately $5,500,000 for grants and cooperative agreements for the Healthy Homes Demonstration and Education Grant Program. Applications were scored and selected on the basis of selection criteria contained in that NOFA.

A total of $5,823,389 was awarded to eight grantees. However, HUD was not able to successfully conclude negotiations with the Research Foundation of the State University of New York for an award of $700,000. This amount will be awarded to the next highest scoring application. In accordance with section 102(a)(4)(C) of the Department of Housing and Urban Development Reform Act of 1989 (103 Stat. 1987, 42 U.S.C. 3545), the Department is publishing the names, addresses, and amounts of this award as follows:

The University of Tulsa, 600 South College Avenue, Tulsa, OK 74104-3189.

Total Amount of Grant: $700,000.

Dated: September 16, 2002.
David E. Jacobs,
Director, Office of Healthy Homes and Lead Hazard Control.

[FR Doc. 02-26765 Filed 10-21-02; 8:45 am]

BILLING CODE 4210-70-M